DEPARTMENT OF THE INTERIOR

Fish and Wildlife Service

Endangered Species Permit Applications

AGENCY: Fish and Wildlife Service.

ACTION: Notice of receipt of permit applications.

SUMMARY: The following applicants have applied for a scientific research permit to conduct certain activities with endangered species pursuant to section 10(a)(1)(A) of the Endangered Species Act of 1973, as amended (16 U.S.C. 1531 et seq.).

Permit No. TE-048470

Applicant: Sonoma County Permit and Resource Management Department, Santa Rosa, California.

The applicant requests a permit to take (capture) the California freshwater shrimp (Syncaris pacifica) in conjunction with surveys throughout the species range in California for the purpose of enhancing its survival.

Permit No. TE-048739

Applicant: Daniel Cordova, Santa Maria, California.

The applicant requests a permit to take (locate and monitor nests) the California least tern (Sterna antillarum browni) in conjunction with population monitoring in San Luis Obispo and Santa Barbara Counties, California, for the purpose of enhancing its survival.

Permit No. TE-049072

Applicant: Wayne D. Spencer, San Diego, California.

The applicant requests a permit to take (capture, handle, mark, and release) the Pacific pocket mouse (Perognathus longimembris pacificus), San Bernardino kangaroo rat (Dipodomys merriami parvus), and Stephens' kangaroo rat (Dipodomys stephensi) in conjunction with demographic and ecological research throughout the species' range for the purpose of enhancing their survival.

Permit No. TE-702631

Applicant: Assistant Regional Director-Ecological Services, Region 1, U.S. Fish and Wildlife Service, Portland, Oregon.

The applicant requests a permit amendment to remove/reduce to possession specimens of the following plant species: Silene spaldingii (Spalding's catchfly). Authorization is also requested to take the following species: Ohlone tiger beetle (Cicindela ohlone). Collection and take activities will be conducted throughout the species' range in conjunction with recovery efforts for the purpose of enhancing their propagation and survival.

Permit No. TE-049461

Applicant: Jaymee Marty, Galt, California.

The applicant requests a permit to take the vernal pool tadpole shrimp (Lepidurus packardi) in Sacramento County, California, in conjunction with population monitoring for the purpose of enhancing its survival.

Permit No. TE-026932

Applicant: Darlene Woodbury, Santa Maria, California.

The permittee requests a permit amendment to take (capture and band) the California least tern (Sterna antillarum browni) in conjunction with population monitoring in San Luis Obispo and Santa Barbara Counties, California, for the purpose of enhancing its survival.

Permit No. TE-802107

Applicant: Patricia Baird, Long Beach, California.

The permittee requests a permit amendment to take (collect blood) the least tern (Sterna antillarum) throughout the its range in conjunction with genetic research for the purpose of enhancing its survival.

Permit No. TE-049175

Applicant: Melanie R. Huffman, Pheonix, Arizona.

The applicant requests a permit to take (survey) the Delhi Sands flower-loving fly (Rhaphiomidas terminatus abdominalis), and take (pursue) the Quino Checkerspot Butterfly (Euphydryas editha quino) in conjunction with surveys throughout the range of each species for the purpose of enhancing their survival.

Permit No. TE-049470

Applicant: Chris A. Niemela, La Mirada, California.

The applicant requests a permit to take (pursue) the Quino Checkerspot Butterfly (Euphydryas editha quino) in conjunction with surveys throughout the range of the species for the purpose of enhancing its survival.

Permit No. TE-049540

Applicant: Riverside-Corona Resource Conservation District, Riverside, California.

The applicant requests a permit to take (capture and remove from the wild) the Santa Ana sucker (Catostomus santaanae) in conjunction with relocation and captive propagation in a controlled stream site, and release to the wild for the purpose of enhancing its survival.

Permit No. TE-048660

Applicant: Dharm S. Pellegrini, Los Angeles, California.

The applicant requests a permit to take (survey, locate and monitor nests) the southwestern willow flycatcher (Empidonax trailii extimus) and take (locate and monitor nests) the least Bell's vireo (Vireo bellii pusillus) in conjunction with population monitoring in San Bernadino, Riverside, Orange, San Diego, Kern, Los Angeles, and Ventura Counties, California for the purpose of enhancing their survival.

DATES: Written comments on these permit applications must be received within 30 days of the date of publication of this notice.

ADDRESSES: Written data or comments should be submitted to the Chief, Endangered Species, Ecological Services, Fish and Wildlife Service, 911 NE. 11th Avenue, Portland, Oregon 97232-4181; Fax: (503) 231-6243. Please refer to the respective permit number for each application when submitting comments. All comments received, including names and addresses, will become part of the official administrative record and may be made available to the public.

FOR FURTHER INFORMATION CONTACT: Documents and other information submitted with these applications are available for review, subject to the requirements of the Privacy Act and Freedom of Information Act, by any party who submits a written request for a copy of such documents within 20 days of the date of publication of this notice to the address above; telephone: (503) 231-2063. Please refer to the respective permit number for each application when requesting copies of documents.

Dated: November 15, 2001.
Rowan W. Gould,
Acting Regional Director, Region 1, Portland, Oregon.

[FR Doc. 01-29825 Filed 11-30-01; 8:45 am]

BILLING CODE 4310-55-P